DEPARTMENT OF EDUCATION

Teaching American History

AGENCY: Office of Innovation and Improvement, Department of Education.

ACTION: Notice of final selection criteria and other application requirements.

SUMMARY: The Assistant Deputy Secretary for Innovation and Improvement announces selection criteria and other application requirements for the Teaching American History program. We may use these selection criteria and other application requirements for competitions in fiscal year (FY) 2005 and later years. We take this action to provide more specificity with regard to the range of awards and the number of awards a local educational agency (LEA) may receive in each competition. We intend these selection criteria and other application requirements to provide a description of the goals and objectives of the Teaching American History program so that applicants will describe clear and specific means by which they will achieve those goals and objectives.

DATES: Effective Date: These selection criteria and other application requirements are effective May 16, 2005.

FOR FURTHER INFORMATION CONTACT: Alex Stein, U.S. Department of Education, 400 Maryland Avenue, SW., room 4W218, Washington, DC 20202-5910. Telephone: (202) 205-9085 or via Internet: Alex.Stein@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The Teaching American History (TAH) program is authorized by Title II, Part C, Subpart 4 of the Elementary and Secondary Education Act of 1965, as reauthorized by the No Child Left Behind Act of 2001 (ESEA). TAH grants support projects to raise student achievement by improving teachers' knowledge, understanding, and appreciation of traditional American history. This notice is intended to ensure that the TAH program is using the highest-quality selection criteria, so that the program in turn receives the highest-quality grant applications.

We published a notice of proposed selection criteria and other application requirements for this program in the Federal Register on January 14, 2005 (70 FR 2625). The notice of proposed selection criteria and other application requirements included a discussion of the significant issues and analysis used in the determination of the selection criteria and other application requirements. (See pages 2625 through 2626 of that notice).

No significant changes were made to these final selection criteria and other application requirements, but we have added language to provide better clarity and facilitate better understanding of the intent of the selection criteria.

Analysis of Comments and Changes

In response to our invitation in the notice of proposed selection criteria and other application requirements, 10 parties submitted comments. An analysis of the comments we received and our responses follows.

We discuss substantive issues under the title of the selection criteria and other application requirements to which they pertain. Generally, we do not address technical and other minor changes—and suggested changes that we are not authorized to make under the applicable statutory authority. Please note, however, that we did make a minor change to the Funding section in which we eliminated minimum funding levels for each LEA category and changed the name of that section to Maximum Awards.

A. Proposed Selection Criteria

Comment: One commenter praised the Department, stating that the proposed selection criteria made clearer what the Department considered important in a grant proposal and that the criteria would be a good improvement over the application notices issued in past years.

Discussion: We agree with this comment.

Change: None.

Comment: One commenter suggested that the Department delete the language from criterion (1) Project Quality, paragraph (a), “including the implementation of activities,” and paragraphs (i) and (ii), stating that the addition of this language focuses reviewer attention on instruction and away from carefully examining history content.

Discussion: We agree that an emphasis on history content is primary to the TAH program and that the language cited by the commenter might distract reviewers from carefully examining history content.

Change: We have deleted the language and paragraphs cited by the commenter.

Comment: One commenter suggested that the Department move paragraph 1(c) under selection criterion, Project Quality, to the selection criterion, Significance.

Discussion: We agree that this paragraph should be placed under the Significance criterion because it emphasizes teaching strategies.

Change: We have moved this paragraph from the Project Quality criterion to the Significance criterion.

Comment: Three commenters recommended that one sentence in paragraph 1(b) under the Project Quality criterion, which relates to the ways in which American history will be covered by the grant, be changed to emphasize TAH's goal of implementing high-quality American history scholarship. Specifically, the comments suggested that we change the sentence to read as follows: “How specific traditional American history content will be covered by the grant (including the significant issues, episodes, and turning points in the history of the United States; how the words and deeds of individual Americans have determined the course of our Nation; and how the principles of freedom and democracy articulated in the founding documents of this Nation have shaped America's struggles and achievements and its social, political, and legal institutions and relations); the format in which the project will deliver the history content; and the quality of the staff and consultants responsible for delivering these content-based professional development activities, emphasizing, where relevant, their postsecondary teaching experience and scholarship in subject areas relevant to the teaching of traditional American history.”

Discussion: We agree that the addition of a phrase about emphasizing experience and scholarship in traditional American history is important. We also believe that the sentence with the addition of the suggested phrase expresses a realistic and powerful view of traditional American history.

Change: We have added a phrase to paragraph 1(b) in the Project Quality criterion that emphasizes that those who provide professional development to participating teachers in the TAH program should possess experience and scholarship relevant to American History.

Comment: One commenter suggested that the Department delete the phrase “and locally implement services” from criterion (2), Significance. This suggestion is based on the commenter's view that it is not necessary that all services be delivered locally, given that summer institutes and other professional development services may be held some distance from the schools in which teachers work.

Discussion: We agree that all services need not be delivered locally and that high-quality professional development can be delivered at some distance from schools and school districts.

Change: We have deleted the phrase from the selection criterion.

B. Proposed Application Requirements

Comment: Three commenters suggested that the Department provide information on whether school district consortia may be formed to apply for grant funds, so that an applicant may be eligible for a larger award.

Discussion: We agree with the need to provide clarification of this issue.

Change: We have revised the language on funding by adding a sentence to the Maximum Awards section indicating that schools may form consortia when applying.

Comment: Five commenters suggested that the Department delete the funding provision that limits school districts with student enrollment under 20,000 to a grant of $500,000.

Discussion: With the change to allow school districts to form consortia and to pool their enrollments, there should be no obstacle to small districts joining together to apply for this grant as consortium members in order to receive a larger grant. For districts with a student enrollment of less than 20,000 students that choose to apply for the grant on their own, a three-year grant of $500,000 should be adequate for addressing the professional development needs of their U.S. history teachers, and would be proportionate to the number of teachers likely to be served.

Change: None.

Note: This notice does not solicit applications. In any year in which we choose to use these selection criteria and other application requirements, we invite applications through a notice in the Federal Register.

Selection Criteria

The Secretary uses the following selection criteria to evaluate applications under this program. The maximum score for all of these criteria is 100 points. In any given year, we will announce the maximum possible score for each criterion, either in the application notice published in the Federal Register or in the application package.

(1) Project quality. The Secretary considers the quality of the proposed project by considering—

(a) The likelihood that the proposed project will develop, implement, and strengthen programs to teach traditional American history as a separate academic subject (not as a component of social studies) within elementary school and secondary school curricula.

(b) How specific traditional American history content will be covered by the grant (including the significant issues, episodes, and turning points in the history of the United States; how the words and deeds of individual Americans have determined the course of our Nation; and how the principles of freedom and democracy articulated in the founding documents of this Nation have shaped America's struggles and achievements and its social, political, and legal institutions and relations); the format in which the project will deliver the history content; and the quality of the staff and consultants responsible for delivering these content-based professional development activities, emphasizing, where relevant, their postsecondary teaching experience and scholarship in subject areas relevant to the teaching of traditional American history. The applicant may also attach curriculum vitae for individuals who will provide the content training to the teachers.

(c) How well the applicant describes a plan that meets the statutory requirement to carry out activities under the grant in partnership with one or more of the following:

(i) An institution of higher education.

(ii) A nonprofit history or humanities organization.

(iii) A library or museum.

(d) The applicant's rationale for selecting the partner(s) and its description of specific activities that the partner(s) will contribute to the grant during each year of the project. The applicant should include a memorandum of understanding or detailed letters of commitment from the partner(s) in an appendix to the application narrative.

(2) Significance. The Secretary considers the significance of the proposed project. In determining the significance of the project, the Secretary considers—

(a) The extent to which the proposed project is likely to build local capacity to improve or expand the LEA's ability to provide American history teachers professional development in traditional American history subject content and content-related teaching strategies.

(b) The importance or magnitude of the results or outcomes likely to be attained by the proposed project, especially improvements in teaching and student achievement.

(c) How teachers will use the knowledge acquired from project activities to improve the quality of instruction. This description may include plans for reviewing how teachers' lesson planning and classroom teaching are affected by their participation in project activities.

Note: In meeting this criterion, the Secretary encourages the applicant to include a description of its commitment to build local capacity by primarily serving teachers in its LEA or consortium of LEAs. The Secretary also encourages the applicant to include background and statistical information to explain the project's significance. For example, the applicant could include information on: the extent to which teachers in the LEA are not certified in history or social studies; student achievement data in American history; and rates of student participation in courses such as Advanced Placement U.S. History.

(3) Quality of the management plan. The Secretary considers the quality of the management plan for the proposed project. In determining the quality of the management plan for the proposed project, the Secretary considers the following factors:

(a) The adequacy of the management plan to achieve the objectives of the proposed project on time and within budget, including clearly defined responsibilities, timelines, and milestones for accomplishing project tasks.

(b) The extent to which the time commitments of the project director and other key project personnel are appropriate and adequate to meet the objectives of the proposed project.

(4) Quality of the project evaluation. The Secretary considers the quality of the evaluation to be conducted of the proposed project. In determining the quality of the evaluation, the Secretary considers:

(a) The extent to which the methods of evaluation include the use of objective performance measures that are clearly related to the intended outcomes of the project and will produce quantitative and qualitative data to the extent possible.

(b) How well the evaluation plans are aligned with the project design explained under the Project Quality criterion.

(c) Whether the evaluation includes benchmarks to monitor progress toward specific project objectives, and outcome measures to assess the impact on teaching and learning or other important outcomes for project participants.

(d) Whether the applicant identifies the individual and/or organization that has agreed to serve as evaluator for the project and includes a description of the qualifications of that evaluator.

(e) The extent to which the applicant indicates the following:

(i) What types of data will be collected;

(ii) When various types of data will be collected;

(iii) What methods will be used to collect data;

(iv) What data collection instruments will be developed;

(v) How the data will be analyzed;

(vi) When reports of results and outcomes will be available;

(vii) How the applicant will use the information collected through the evaluation to monitor the progress of the funded project and to provide accountability information about both success at the initial site and effective strategies for replication in other settings; and

(viii) How the applicant will devote an appropriate level of resources to project evaluation.

Maximum Awards

(1) Total funding for a three-year project period is a maximum of: $500,000 for LEAs with enrollments of less than 20,000 students; $1,000,000 for LEAs with enrollments of 20,000-300,000 students; and $2,000,000 for LEAs with enrollments above 300,000 students. LEAs may form consortia and combine their enrollments in order to receive a grant reflective of their combined enrollment. For districts applying jointly as a consortium, the maximum award is based on the combined enrollment of the individual districts in the consortium. If more than one LEA wishes to form a consortium, they must follow the procedures for group applications described in 34 CFR 75.127 through 34 CFR 75.129 of the Education Department General Administrative Regulations.

(2) A maximum of one grant will be awarded per applicant per competition.

Executive Order 12866

This notice of final selection criteria and other application requirements has been reviewed in accordance with Executive Order 12866. Under the terms of the order, we have assessed the potential costs and benefits of this regulatory action.

The potential costs associated with the notice of final selection criteria and other application requirements are those resulting from statutory requirements and those we have determined as necessary for administering this program effectively and efficiently.

In assessing the potential costs and benefits—both quantitative and qualitative—of this notice of final selection criteria and other application requirements, we have determined that the benefits of the final selection criteria and other application requirements justify the costs.

We also have determined that this regulatory action does not unduly interfere with State, local, and tribal governments in the exercise of their governmental functions.

We fully discussed the costs and benefits in the notice of proposed selection criteria and other application requirements.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.215X Teaching American History Program)

Program Authority: 20 U.S.C. 6721-6722.

Dated: April 12, 2005.
Michael J. Petrilli,
Acting Assistant Deputy Secretary for Innovation and Improvement.

[FR Doc. 05-7598 Filed 4-14-05; 8:45 am]

BILLING CODE 4000-01-P